DEPARTMENT OF JUSTICE

[OMB Number 1125-0006]

Agency Information Collection Activities; Proposed eCollection eComments Requested; Title: Notice of Entry of Appearance as Attorney or Representative Before the Immigration Court (EOIR-28)

AGENCY: Executive Office for Immigration Review, Department of Justice.

ACTION: 30-Day notice.

SUMMARY: The Department of Justice (DOJ), Executive Office for Immigration Review (EOIR), will be submitting the following information collection request (ICR) to the Office of Management and Budget (OMB) for review and approval in accordance with the Paperwork Reduction Act of 1995.

DATES: Comments are encouraged and will be accepted for 30 days until December 23, 2024.

FOR FURTHER INFORMATION CONTACT: The proposed information collection was previously published in the Federal Register on September 18, 2024, 89 FR 76510, Pages 76510-76511 allowing a 60-day comment period. If you have comments especially on the estimated public burden or associated response time, suggestions, or need a copy of the proposed information collection instrument with instructions or additional information, please contact: Laeticia Mukala-Nirere, Attorney Advisor, Office of the General Counsel, Executive Office for Immigration Review, 5107 Leesburg Pike, Suite 2600, Falls Church, VA 22041, telephone: (703) 305-0470, EOIR.PRA.Comments@usdoj.gov or Kabina.L.Mukala-Nirere@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number 1125-0006. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Renewal, with change, of a currently approved collection. EOIR is making several non-substantive changes to the current Form EOIR-28, including moving the word “alien” on the first page to the subsequent sentence; moving the “Law Firm/Organization” field to the line below the “Name” field, and moving the “Address” field below “Law Firm/Organization; correcting EOIR website address, and updating the toll number and website address to obtain automated case information. EOIR is also making several minor but substantive changes to the current Form EOIR-28, to include clarifying the information required of reputable individuals; adding language explaining the types of appearances before the Immigration Court and corresponding obligations; and modifying the paragraph explaining what constitutes an appearance on behalf of a respondent.

2. Title of the Form/Collection: Notice of Entry of Appearance as Attorney or Representative Before the Immigration Court.

3. Agency form number, if any, and the applicable component of the Department of Justice sponsoring the collection: The form number is EOIR-28; the sponsoring component is Executive Office for Immigration Review, United States Department of Justice.

4. Affected public who will be asked or required to respond, as well as a brief abstract: Primary: Attorneys and qualified representatives notifying the Immigration Court that they are representing a respondent in immigration proceedings. Other: None. Abstract: This information collection is necessary to allow an attorney or representative to notify the Immigration Court that he or she is representing a respondent before the Immigration Court.

5. Obligation to Respond: The information requested on this form is authorized by 8 U.S.C. 1229(a), 1362 and 8 CFR 1003.17 to enter an appearance to represent a party before the Immigration Court. This is a mandatory collection of information because EOIR requires it to enter an appearance. Failure to provide the requested information will result in an inability to represent a party or receive notice of actions in a proceeding.

6. Total Estimated Number of Respondents: It is estimated that 1,536,921 respondents will complete the form annually.

7. Estimated Time per Respondent: It is estimated that it will take an average of 6 minutes per response.

8. Frequency: It is estimated that respondents will complete the form annually.

9. Total Estimated Annual Time Burden: The estimated public burden associated with this collection is 153,692 hours. It is estimated that respondents will take 6 minutes to complete the form.

10. Total Estimated Annual Other Costs Burden: The estimated annual cost burden associated with this collection is $10,770,735.

If additional information is required, contact: Darwin Arceo, Department Clearance Officer, Policy and Planning Staff, Justice Management Division, United States Department of Justice, Two Constitution Square, 145 N Street NE, 4W-218 Washington, DC 20530.

Dated: November 18, 2024.
Darwin Arceo,
Department Clearance Officer for PRA, U.S. Department of Justice.

[FR Doc. 2024-27318 Filed 11-20-24; 8:45 am]

BILLING CODE 4410-30-P